ENVIRONMENTAL PROTECTION AGENCY

[ER-FRL-6618-9]

Environmental Impact Statements; Notice of Availability

Responsible Agency

Office of Federal Activities, General Information (202)564-7167 www.epa.gov/oeca/ofa Weekly receipt of Environmental Impact Statements Filed June 04, 2001 Through June 08, 2001 Pursuant to 40 CFR 1506.9.

EIS No. 010204, FINAL SUPPLEMENT, EPA, MO, Lower Meramec Basin Wastewater Management Plan, Proposed New Regional Wastewater Treatment Plan and Associated Facilities, St. Louis and Jefferson Counties, MO, Wait Period Ends: July 16, 2001,Contact: Joe Cothern (913) 551-7148.

EIS No. 010205, FINAL EIS, NPS, NJ, Maurice National Scenic and Recreational River (NS&RR) Comprehensive Management Plan, Implementation, Atlantic and Cumberland Counties, NJ, Wait Period Ends: July 16, 2001, Contact: Mary Vaura (215) 597-9175.

EIS No. 010206, FINAL EIS, NRC, GA, Generic EIS—Edwin I. Hatch Nuclear Plant, Unit 1 and 2,License Renewal of Nuclear Plants, Supplement 4 to NUREG-1437, Altamaha River, Appling County, GA,Wait Period Ends: July 16, 2001, Contact: Andrew J. Kugler (301) 415-2828.

EIS No. 010207, DRAFT EIS, GSA, CA, Los Angeles Federal Building—U. S. Courthouse, Construction of a New Courthouse in the Civic Center, City of Los Angeles, Los Angeles County, CA, Comment Period Ends: July 30, 2001, Contact: Javad Soltani (415) 522-3493.

EIS No. 010208, DRAFT EIS, NPS, TX, Lake Meredith National Recreation Area and Alibates Flint Quarries National Monument Oil and Gas Management Plan, Hutchinson, Moore and Potter Counties, TX, Comment Period Ends: August 15, 2001, Contact: John C. Benjamin (806) 857-3151.

EIS No. 010209, FINAL EIS, USN, CA, Naval Station(NAVSTA) San Diego Replacement Pier and Dredging Improvements, Construction, Dredging and Dredged Material Disposal, San Diego Naval Complex, San Diego, CA, Wait Period Ends: July 16, 2001, Contact: Grace S. Penafuerte (619) 556-7773.

EIS No. 010210, DRAFT EIS, TVA, TN, Addition of Electric Generation Baseload Capacity, Proposes to Construction a Natural Gas Fired Combined Cycle Power Plant, Franklin County, TN, Comment Period Ends: July 30, 2001, Contact: Bruce L. Yeager (865) 632-8051.

EIS No. 010211, DRAFT EIS, FRC, WA, Cowlitz River Hydroelectric Project (No. 2016-044), Relicensing of the Existing 462-megawatt, Cowlitz River, City of Tacoma, WA, Comment Period Ends: July 30, 2001, Contact: David Turner (202) 219-2844.

EIS No. 010212, FINAL EIS, USN, VA, Marine Corps Heritage Center (MCHC) Complex, Construction and Operation at Marine Corps Base (MCB) Quantico, VA, Wait Period Ends: July 16, 2001, Contact: Hank Riek (202) 685-3064.

EIS No. 010213, DRAFT SUPPLEMENT, UMC, AZ, CA, Yuma Training Range Complex Management, Additional Information on the Cumulative Impacts of Activities on the Sonoran pronghorn (Antilocapra americana sonorienisis), Marine Corps Air Station Yuma, Goldwater Range, Yuma and La Paz Cos., AZ and Chocolate Mountain Range,Imperial and Riverside, CA, Comment Period Ends: July 30, 2001,Contact: Deb Theroux (619) 532-1162.

Amended Notices

EIS No. 010184, FINAL EIS, FHW, TX, US Highway 183 Alternate Project, Improvements from RM-620 to Approximately Three Miles North of the City of Leander, Williamson County, TX, Due: July 16, 2001, Contact: Patrick Bauer (512) 536-5950. Revision of Federal Register Notice Published on 05/25/2001: CEQ Review Period Ending 06/25/2001 has been Extended to 07/16/2001, also correction to contact telephone number.

EIS No. 010092, DRAFT EIS, AFS, ID, Clean Slate Ecosystem Management Project, Aquatic and Terrestrial Restoration, Nez Perce National Forest, Salmon River Ranger District, Idaho County ID, Due: June 20, 2001, Contact: Bill Shields (208) 839-2211. Revision of Federal Register Notice Published on 05/23/2001: CEQ Review Period Ending 05/07/2001 has been extended to 06/20/2001.

EIS No. 010131, Draft EIS, UAF, VA, Initial F-22 Operational Wing Beddown Replacing the Existing F-15C at Langley (AFB) or one of the Four Alternative Locations, VA, Due: June 25, 2001, Contact: Brenda Cook (757) 764-5007. Revision of FR Notice Published on 04/27/2001: CEQ Review Period Ending 06/11/2001 has been extended to 06/25/2001.

EIS No. 010161, Draft EIS, USA, CO, Pueblo Chemical Depot, Destruction of Chemical Munitions, Design, Construction, Operation and Closure of a Facility, Pueblo County, CO, Due: August 09, 2001, Contact: Penny Robitaille (410) 436-4178. Revision of FR Notice Published on 05/11/2001: CEQ Review Period Ending 06/25/2001 has been extended to 08/09/2001.

EIS No. 010162, Draft EIS, DOD, AL, CO, AR, KY, Assembled Chemical Weapons Destruction Technologies at One or More Sites: Design, Construction and Operation of One or More Pilot Test Facilities, Anniston Army Depot, AL; Pine Bluff Arsenal, AR; Blue Grass Army Depot, KY and Pueblo Chemical Depot, CO, Due: August 09, 2001, Contact: Jon Ware (410) 436-2210. Revision of FR Notice Published on 05/11/2001: CEQ Review Period Ending on 06/25/2001 has been Extended to 08/09/2001.

Dated: June 12, 2001.
Joseph C. Montgomery,
Director, NEPA Compliance Division, Office of Federal Activities.

[FR Doc. 01-15169 Filed 6-14-01; 8:45 am]

BILLING CODE 6560-50-U